DEPARTMENT OF TRANSPORTATION

Federal Motor Carrier Safety Administration

[Docket No. FMCSA-2014-0420]

Hours of Service of Drivers: Specialized Carriers & Rigging Association (SC&RA) Exemption; FAST Act Extension of Expiration Date

AGENCY: Federal Motor Carrier Safety Administration (FMCSA), DOT.

ACTION: Notice; extension of exemption.

SUMMARY: FMCSA announces the extension of the 2015 exemption granted to the Specialized Carriers and Rigging Association (SC&RA) for the transportation of loads that exceed normal weight and dimensional limits. The exemption applies to all oversize-overweight permitted loads whose drivers are not required to comply with the 30-minute rest break rule. The Agency extends the expiration date to June 17, 2020, in response to section 5206(b)(2)(A) of the “Fixing America's Surface Transportation Act” (FAST Act). That section extends the expiration date of hours-of-service (HOS) exemptions in effect on the date of enactment of the FAST Act to 5 years from the date of issuance of the exemptions. The SC&RA exemption from the Agency's 30-minute rest break requirement is limited to drivers of specialized loads moving in interstate commerce that exceed normal weight and dimension limits—oversize/overweight (OS/OW) loads—and require a permit issued by a government authority. The Agency previously determined that the drivers of specialized commercial motor vehicles (CMV) under this exemption would likely achieve a level of safety equivalent to or greater than the level of safety that would be obtained in the absence of the exemption.

DATES: This limited exemption is effective from June 18, 2015, through June 17, 2020.

FOR FURTHER INFORMATION CONTACT: Mr. Thomas Yager, Chief, FMCSA Driver and Carrier Operations Division; Office of Carrier, Driver and Vehicle Safety Standards; Telephone: 614-942-6477. Email: MCPSD@dot.gov.

SUPPLEMENTARY INFORMATION:

Legal Basis

FMCSA has authority under 49 U.S.C. 31136(e) and 31315 to grant exemptions from certain parts of the Federal Motor Carrier Safety Regulations. FMCSA must publish a notice of each exemption request in the Federal Register [49 CFR 381.315(a)].

Section 5206(b)(2)(A) of the FAST Act requires FMCSA to extend any exemption from any provision of the HOS regulations under 49 CFR part 395 that was in effect on the date of enactment of the Act for a period of 5 years from the date the exemption was granted. The exemption may be renewed. Because this action merely implements a statutory mandate that took effect on the date of enactment of the FAST Act, notice and comment are not required.

SC&RA Exemption

The SC&RA, a trade association, applied for a limited exemption from the mandatory rest break requirement of 49 CFR 395.3(a)(3)(ii) on behalf of all specialized carriers and drivers responsible for the transportation of loads exceeding standard legal weight and dimensional limits—oversize/overweight (OS/OW) loads—that require a permit issued by a government authority.

FMCSA reviewed SC&RA's application and the public comments and concluded that limiting the exemption to these OS/OW permitted loads would promote safety at least as effectively as the 30-minute break. Because hours in which an OS/OW load can travel are restricted by permit requirements, often those hours are in conflict with the timing of the required 30-minute rest break. A Notice of Final Determination granting the SC&RA exemption was published on June 18, 2015 [80 FR 34957].

The substance of the exemption is not affected by this extension. The exemption covers only the 30-minute rest break requirement [49 CFR 395.3(a)(3)(ii)]. The exemption is restricted to drivers of specialized loads moving in interstate commerce that exceed normal weight and dimensional limits—OS/OW loads—and require a permit issued by a government authority.

The FMCSA does not believe the safety record of any driver operating under this exemption will deteriorate. However, should deterioration in safety occur, FMCSA will take all steps necessary to protect the public interest, including revocation of the exemption. The FMCSA has the authority to terminate the exemption at any time the Agency has the data/information to conclude that safety is being compromised.

Issued on: November 3, 2016.
T.F. Scott Darling, III,
Administrator.

[FR Doc. 2016-27267 Filed 11-10-16; 8:45 am]

BILLING CODE 4910-EX-P